DEPARTMENT OF TRANSPORTATION

Federal Railroad Administration

Agency Information Collection Activities

AGENCY: Federal Railroad Administration, DOT.

ACTION: Notice of OMB Approvals.

SUMMARY: In compliance with the Paperwork Reduction Act of 1995 (44 U.S.C. 3501 et seq.) and 5 CFR 1320.5(b), this notice announces that new information collection requirement (ICR) listed below has been approved by the Office of Management and Budget (OMB). This new ICR pertains to 49 CFR Part 262. Additionally, FRA hereby announces that other ICRs listed below have been re-approved by the Office of Management and Budget (OMB). These ICRs pertain to Parts 215, 216, 219, 223, and 239. The OMB approval numbers, titles, and expiration dates are included herein under supplementary information.

FOR FURTHER INFORMATION CONTACT: Mr. Robert Brogan, Office of Planning and Evaluation Division, RRS-21, Federal Railroad Administration, 1200 New Jersey Ave., SE., Mail Stop 25, Washington, DC 20590 (telephone: (202) 493-6292), or Gina Christodoulou, Office of Support Systems, RAD-43, Federal Railroad Administration, 1200 New Jersey Ave., NW., Mail Stop 35, Washington, DC 20590 (telephone: (202) 493-6139). (These telephone numbers are not toll-free.)

SUPPLEMENTARY INFORMATION: The Paperwork Reduction Act of 1995 (PRA), Public Law No. 104-13, § 2, 109 Stat. 163 (1995) (codified as revised at 44 U.S.C. 3501-3520), and its implementing regulations, 5 CFR Part 1320, require Federal agencies to display OMB control numbers and inform respondents of their legal significance once OMB approval is obtained. The following new FRA information collections were approved in the last year: (1) OMB No. 2130-0572, Causal Analysis and Countermeasures to Reduce Rail-related Suicides (Forms FRA F 6180.125A and FRA F 6180.125B), and (2) OMB No. 2130-0573, Implementation of Program for Capital Grants for Rail Line Relocation and Improvement Projects (49 CFR 262). The expiration date for these two new collections of information is November 30, 2010.

The following information collections were re-approved: (1) OMB No. 2130-0504, Special Notice for Repairs (49 CFR part 216) (Forms FRA F 6180.8 and FRA 6180.8A). The new expiration date for this information collection is August 31, 2010. (2) OMB No. 2130-0511, Designation of Qualified Persons (49 CFR 215). The new expiration date for this information collection is May 31, 2010. (3) OMB No. 2130-0526, Control of Alcohol and Drug Use in Railroad Operations (49 CFR 219) (Forms FRA F 6180.73 and FRA F 6180.74). The new expiration date for this information collection is March 31, 2010. (4) OMB No. 2130-0545, Passenger Train Emergency Preparedness (49 CFR 223 and 239). The new expiration date for this information collection is May 31, 2010. (5) OMB No. 2130-0555, FRFB Employees Who Perform Train or Dispatching Service in the United States (49 CFR 219). The new expiration date for this information collection is August 31, 2010.

Persons affected by the above referenced information collections are not required to respond to any collection of information unless it displays a currently valid OMB control number. These approvals by the Office of Management and Budget (OMB) certify that FRA has complied with the provisions of the Paperwork Reduction Act of 1995 (Pub. L. 104-13) and with 5 CFR 1320.5(b) by informing the public about OMB's approval of the information collection requirements of the above cited forms and regulations.

Authority: 44 U.S.C. 3501-3520.

Issued in Washington, DC on December 21, 2007.
D.J. Stadtler,
Director, Office of Financial Management, Federal Railroad Administration.

[FR Doc. E7-25334 Filed 12-28-07; 8:45 am]

BILLING CODE 4910-06-P